DEPARTMENT OF THE INTERIOR

U.S. Geological Survey

Energy Independence and Security Act (Pub. L. 110-140)

AGENCY: U.S. Geological Survey.

ACTION: Notice of Publication of a Carbon Dioxide Storage Resource Assessment Methodology.

SUMMARY: In 2007, the Energy Independence and Security Act (Pub. L. 110-140) directed the United States Geological Survey (USGS) to conduct a national assessment of potential geologic storage resources for carbon dioxide (CO2). The first requirement stipulated in the legislation was to develop a methodology to estimate storage potential that could be applied uniformly to geologic formations across the United States, and then to announce the publication of the methodology in the Federal Register. The methodology, “A Probabilistic Assessment Methodology for the Evaluation of Geologic Carbon Dioxide Storage,” was published as an Open-File Report by the USGS and can be downloaded from: http://pubs.usgs.gov/of/2010/1127. This new methodology incorporates comments from the public, the heads of affected Federal and State agencies, and technical experts from Federal agencies, institutions of higher education, nongovernmental organizations, State organizations, industry, and international geoscience organizations, as required by the legislation. The new methodology will allow the USGS to assess the geologic CO2 storage resource potential for the United States. The results of the USGS national assessment will provide important information to evaluate the potential for CO2 storage as a mitigation option for global climate change.

Inquiries: If other parties are interested in learning more about the methodology, USGS CO2 storage assessment activities, or would like to be mailed a hard copy, please contact Peter Warwick, USGS, 12201 Sunrise Valley Drive, MS 956, Reston, VA 20192, voice (703) 648-6469, fax (703) 648-6419, or e-mail pwarwick@usgs.gov.

SUPPLEMENTARY INFORMATION: This notice is submitted to meet the requirements of Section 711 of Public Law 110-140.

Dated: June 28, 2010.
Brenda Pierce,
Chief Scientist (acting) and Energy Resources Program Coordinator.

[FR Doc. 2010-16236 Filed 7-7-10; 8:45 am]

BILLING CODE 4311-AM-P